ENVIRONMENTAL PROTECTION AGENCY

40 CFR Part 180

[EPA-HQ-OPP-2013-0729; FRL-9917-15]

Paraquat Dichloride; Pesticide Tolerance

Correction

In rule document 2014-25592 appearing on pages 64317 through 64322 in the issue of Wednesday, October 29, 2014, the table on page 64322 is corrected to read as follows:

§ 180.205 Paraquat; tolerances for residues [Corrected]

(a) * * *

Commodity | Parts per million
* * * *
Vegetable, tuberous and corm, subgroup 1C | 0.50
* * * *

[FR Doc. C1-2014-25592 Filed 11-13-14; 8:45 am]

BILLING CODE 1505-01-D